ENVIRONMENTAL PROTECTION AGENCY

[FRL-6605-2]

Agency Information Collection Activities: Submission for OMB Review; Comment Request, Standards of Performance for New Stationary Sources Phosphate Fertilizer Industry

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Standards of Performance for New Stationary Sources —Phosphate Fertilizer Industry— NSPS part 60, subparts T, U, V, W, and X, OMB Control No. 2060-0037, expiration 8/31/00. The ICR describes the nature of the information collection and its expected burden and cost; where appropriate, it includes the actual data collection instrument.

DATES: Comments must be submitted on or before June 12, 2000.

FOR FURTHER INFORMATION CONTACT: For a copy of the ICR contact Sandy Farmer at EPA by phone at (202) 260-2740, by E-Mail at Farmer.Sandy@epamail.epa.gov or download off the Internet at http://www.epa.gov/icr and refer to EPA ICR No.1061.08. For technical questions about the ICR, contact Stephen Howie, (202) 564-4146.

SUPPLEMENTARY INFORMATION: Title: Standards of Performance for Phosphate Fertilizer Industry, OMB Control No. 2060-0037; EPA ICR No 1061.08, expiration 8/31/00. This is a request for extension of a currently approved collection.

Abstract: The Administrator has judged that fluoride emissions from the phosphate fertilizer industry cause or contribute to air pollution that may reasonably be anticipated to endanger public health or welfare. Phosphate fertilizer plant and phosphate bearing feed owners/operators of phosphate fertilizer plants must notify EPA of construction, modification, start-ups, shutdowns, malfunctions, and dates and results of the initial performance test. Owners/operators must install, calibrate, and maintain monitoring devices to continuously measure/record pressure drop across scrubbers.

Recordkeeping shall consist of: the occurrence and duration of all startups and malfunctions as described; initial performance tests results; amount of phosphate feed material; equivalent calculated amounts of P2O5, and pressure drops across scrubber systems. Startups, shutdowns and malfunctions must be recorded as they occur. Performance test records must contain information necessary to determine conditions of performance test and performance test measurements. Equivalent P2O5, stored or amount of feed must be recorded daily. The CMS shall record pressure drop across scrubbers continuously and automatically.

Reporting shall include: initial notifications listed; and initial performance test results.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on January 21, 2000; no comments were received.

Burden Statement: The annual public reporting and recordkeeping burden for this collection of information is estimated to average 87.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Phosphate Fertilizer Industry.

Estimated Number of Respondents: 11.

Frequency of Response: 1.

Estimated Number of Responses: 11.

Estimated Total Annual Hour Burden: 963 hours.

Estimated Total Annualized Capital, O&M Cost Burden: 0.

Send comments on the Agency's need for this information, the accuracy of the provided burden estimates, and any suggested methods for minimizing respondent burden, including through the use of automated collection techniques to the following addresses. Please refer to EPA ICR No.1061.08 and OMB Control No. 2060-0037 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: May 2, 2000.
Oscar Morales,
Director, Collection Strategies Division.

[FR Doc. 00-11819 Filed 5-10-00; 8:45 am]

BILLING CODE 6560-50-P